DEPARTMENT OF TRANSPORTATION

Surface Transportation Board

[STB Finance Docket No. 34174]

Grand Trunk Western Railroad Incorporated—Trackage Rights Exemption—Pennsylvania Lines LLC and Norfolk Southern Railway Company

Pennsylvania Lines LLC (PRR), as owner, and Norfolk Southern Railway Company (NS), as operator, pursuant to a written trackage rights agreement entered into among Grand Trunk Western Railroad Incorporated, PRR and NS, have agreed to grant nonexclusive overhead trackage rights to GTW ¹ between milepost UW-2.4 of the former Chicago Junction Railway Company to a point approximately 250 feet south of 43rd Street via Tracks #237 and #222, and between 43rd Street and a point approximately 100 feet south of 43rd Street, via Track #224, all in Chicago, IL, a total distance of approximately 0.7 miles.

¹ GTW is a wholly owned subsidiary of Canadian National Railway Company.

The transaction was scheduled to be consummated on or after March 7, 2002, the effective date of the exemption.

The purpose of the trackage rights is to allow GTW to connect with Track #224.

As a condition to this exemption, any employees affected by the trackage rights will be protected by the conditions imposed in Norfolk and Western Ry. Co.—Trackage Rights—BN, 354 I.C.C. 605 (1978), as modified in Mendocino Coast Ry. Inc.—Lease and Operate, 360 I.C.C. 653 (1980).

This notice is filed under 49 CFR 1180.2(d)(7). If it contains false or misleading information, the exemption is void ab initio. Petitions to revoke the exemption under 49 U.S. C. 10502(d) may be filed at any time. The filing of a petition to revoke will not automatically stay the transaction.

An original and 10 copies of all pleadings, referring to STB Finance Docket No. 34174, must be filed with the Surface Transportation Board, Office of the Secretary, Case Control Unit, 1925 K Street, NW., Washington, DC 20423-0001. In addition, one copy of each pleading must be served on Michael J. Barron, Jr., 455 North Cityfront Plaza Drive, Chicago, IL 60611-5317.

Board decisions and notices are available on our website at WWW.STB.DOT.GOV.

Decided: March 7, 2002.
By the Board, David M. Konschnik, Director, Office of Proceedings.
Vernon A. Williams,
Secretary.

[FR Doc. 02-6022 Filed 3-13-02; 8:45 am]

BILLING CODE 4915-00-P